DEPARTMENT OF THE INTERIOR

Bureau of Land Management, Interior

[LLNVB01000.L13400000.DN0000.223. LXSIGEOT0000.MO: 4500161169]

Notice of Availability of Draft Environmental Impact Statement for Nevada Gold Mines LLC Goldrush Mine Project, Lander and Eureka Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Nevada Gold Mines LLC Goldrush Mine Project and requests the public review and provide comments on the Draft EIS.

DATES: All comments must be received by August 15, 2022. The BLM will announce the date of a public meeting on the Draft EIS at least 15 days in advance of the meeting on the BLM National ePlanning website https://go.usa.gov/xsVs8. The public meeting will be held online.

ADDRESSES: The Draft EIS is available for review on the BLM ePlanning project website at https://go.usa.gov/xsVs8.

Written comments related to the Nevada Gold Mines (NGM) LLC Goldrush Mine Project may be submitted by any of the following methods:

• ePlanning website: https://go.usa.gov/xsVs8.

• Email: BLM_NV_BMDO_P&EC_NEPA@blm.gov.

• Mail: Goldrush Mine EIS c/o BLM Mount Lewis Field Office, 50 Bastian Road, Battle Mountain, NV 89820.

FOR FURTHER INFORMATION CONTACT: Scott Distel, Project Manager, telephone: (775) 635-4093; address: 50 Bastian Road, Battle Mountain, Nevada, 89820; email: sdistel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose and Need for the Proposed Action

The BLM's purpose for the action is to respond to NGM's proposal as described in the proposed Plan of Operations and to analyze the environmental effects associated with the proponent's Proposed Action and alternatives to the Proposed Action. The BLM's need for the action is established by the BLM's responsibilities under FLPMA and the BLM Surface Management Regulations at 43 CFR part 3809 to respond to a proposed Plan of Operations.

Proposed Action and Alternatives

The Proposed Action would include construction, operation, reclamation, and closure of a new underground mining project in the Cortez Mining District of Lander and Eureka Counties, Nevada. The proposed mine plan boundary encompasses a total of 19,853 acres, of which 772 acres would be on private land controlled by NGM and 19,081 acres would be on public lands administered by the BLM Battle Mountain District, Mount Lewis Field Office and BLM Elko District, Tuscarora Field Office. Most of this area is within existing exploration and mine plans approved by the BLM and includes facilities and surface disturbance associated with these authorized plans. To create the new Goldrush mine plan boundary, NGM proposes boundary modifications and/or reclassification of acres within the existing NGM-controlled exploration and mine plan boundaries.

The Proposed Action would create an additional 1,658 acres of surface disturbance on public land administered by the BLM, including approximately 210 acres of exploration disturbance that could occur anywhere within the proposed Goldrush Mine Plan boundary. In addition, approximately 1,024 acres of existing authorized disturbance would be within the Proposed Action footprint, and approximately 12 acres of existing authorized disturbance would be reclassified as part of the Proposed Action.

Under the No Action Alternative, the development of the Goldrush Mine would not be authorized and NGM would not construct, operate, or close a new underground mine (i.e., the Goldrush Mine). Modifications or reclassification of acres as proposed under the Proposed Action, and the dual use of facilities between the Cortez Mine and Goldrush Mine operations, would not occur. NGM would continue current authorized mining and exploration activities under the four separate previously approved Plans.

All authorized activities would be expected to continue under the No Action Alternative. Total authorized disturbance under the No Action Alternative is 22,433 acres and the additional disturbance from the Proposed Action would not occur. Descriptions of the anticipated impacts under the No Action Alternative are included per previously authorized NEPA analyses.

Schedule for the Decision-Making Process

The final EIS is tentatively scheduled for Fall of 2022 with a Record of Decision in early 2023.

Draft EIS Review Process

On August 10, 2021, a notice of intent to prepare an EIS was published in the Federal Register, announcing the beginning of the public scoping process. The BLM held virtual public scoping meetings for the Project on August 25 and 26, 2021. During the scoping period, 16 comment documents were received containing a total of 327 individual comments.

This notice of availability initiates the draft EIS review process. A public meeting to discuss the draft EIS will be held via virtual platform. An announcement regarding when and how to access the virtual meeting online will be posted on the BLM's project website. The purpose of public review of the draft EIS is to provide an opportunity for meaningful collaborative public engagement and for the public to provide substantive comments, such as identification of factual errors, data gaps, relevant methods, or scientific studies. The BLM will respond to substantive comments by making appropriate revisions to the EIS or explaining why a comment did not warrant a change.

The BLM has and will continue to use and coordinate the draft EIS review process to help fulfill the public involvement requirements under the National Historic Preservation Act (54 U.S.C. 306108) as provided in 36 CFR 800.2(d)(3). The information about historic and cultural resources within the area potentially affected by the proposed action will assist the BLM in identifying and evaluating impacts to such resources. The BLM has and will continue to conduct government-to-government consultation with Indian Tribes in accordance with Executive Order 13175 and other policies. Agencies will give due consideration to Tribal concerns, including impacts on Indian trust assets and treaty rights and potential impacts to cultural resources.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Jon D. Sherve,
Field Manager, Mount Lewis Field Office, Battle Mountain District.

[FR Doc. 2022-14027 Filed 6-29-22; 8:45 am]

BILLING CODE 4310-HC-P